FEDERAL COMMUNICATIONS COMMISSION

47 CFR Part 73

[DA 06-1762; MB Docket No. 04-305; RM-10980; RM-11328; RM-11329]

Radio Broadcasting Service; Oak Harbor and Sedro-Woolley, WA

AGENCY: Federal Communications Commission.

ACTION: Final rule.

SUMMARY: The Audio Division allots Channel 277A at Oak Harbor, Washington, as the community's second local service at city reference coordinates 48-17-36 NL and 122-38-31 WL. This is an alternate channel to a petition for rule making (RM-10980) filed by Dana J. Puopolo which proposed Channel 289A at Oak Harbor. In addition, the Audio Division allots Channel *233A for noncommercial educational use at Oak Harbor, Washington at city reference coordinates 48-17-36 NL and 122-38-31. This is an alternate channel to a counterproposal (RM-11328*) filed by Bible Broadcasting Network, Inc. for Channel *289A at Oak Harbor. Lastly, the Audio Division allots Channel 289A at Sedro-Woolley, Washington at city reference coordinates 48-30-14 NL and 122-14-10 WL in response to a counterproposal (RM-11329*) filed by Jodesha Broadcasting, Inc. A filing window for these channels will not be opened at this time. Instead, the issue of opening a filing window for these channels will be addressed by the Commission in a subsequent order.

DATES: Effective October 20, 2006.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-305, adopted August 31, 2006, and released September 5, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Washington, is amended by adding Oak Harbor, Channel 277A and Channel *233A; and Sedro-Woolley, Channel 289A.

Federal Communications Commission.
John A. Karousos,
Assistant Chief, Audio Division, Media Bureau.

[FR Doc. 06-7950 Filed 9-19-06; 8:45 am]

BILLING CODE 6712-01-U